DEPARTMENT OF ENERGY

Federal Energy Regulatory Commission

[Docket No. RP00-234-000]

CNG Transmission Corporation; Notice of Proposed Changes in FERC Gas Tariff

April 4, 2000.

Take notice that on March 31, 2000 CNG Transmission Corporation (CNG), tendered for filing as part of its FERC Gas Tariff, Second Revised Volume No. 1, the following tariff sheet, with an effective date of May 1, 2000:

Fifty-sixth Revised Sheet No. 32

CNG requests waiver of the filing requirements of Section 18.2 of the GT&C to relieve CNG of its obligation to make its next three quarterly stranded cost adjustment filings.

CNG states that the purpose of the rate filing is to submit CNG's quarterly revision of the Section 18.2.B Surcharge, effective for the three-month period commencing May 1, 2000. The charge for the quarter ending April 30, 2000 has been $0.0200 per Dt., as authorized by Commission order dated January 18, 2000 in Docket No. RP00-148-000. CNG's proposed section 18.2.B surcharge for the next quarterly period is $0.0217 per Dt. costs, which CNG incurred for the period of December 1999 through February 2000.

CNG states that copies of this letter of transmittal and enclosures are being served upon CNG's customers and interested state commissions.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-8761 Filed 4-7-00; 8:45 am]

BILLING CODE 6717-01-M